DEPARTMENT OF JUSTICE

Antitrust Division

Notice Pursuant to the National Cooperative Research and Production Act of 1993—Power Tool Institute Table Saw Guarding Joint Venture Project

Correction

In notice document 06-9644 beginning on page 74559 in the issue of Tuesday, December 12, 2006, make the following corrections:

1. On page 74559, in the third column, in the last paragraph, in the second line, “november 2” should read “November 2”.

2. On the same page, in the same column, in the last paragraph, in the last line, “national Cooperative” should read “National Cooperative”.

3, On page 74560, in the first column, in the first full paragraph, in the sixth line, “mount Prospect” should read “Mount Prospect”.

[FR Doc. C6-9644 Filed 12-21-06; 8:45 am]

BILLING CODE 1505-01-D

SOCIAL SECURITY ADMINISTRATION

20 CFR Part 404

[Docket No. SSA-2006-0098]

RIN 0960-AF34

Revised Medical Criteria for Evaluating Visual Disorders

Correction

In rule document 06-9236 beginning on page 67037 in the issue of Monday, November 20, 2006 make the following correction:

Appendix 1 to Subpart P of Part 404 [Corrected]

On page 67054, in Appendix 1 to Subpart P of Part 404, in the first column, in the first line “efers” should read “refers”.

[FR Doc. C6-9236 Filed 12-21-06; 8:45 am]

BILLING CODE 1505-01-D

DEPARTMENT OF TRANSPORTATION

Federal Aviation Administration

14 CFR Part 39

[Docket No. FAA-2006-24696; Directorate Indentifier 2006-NM-038-AD]

RIN 2120-AA64

Airworthiness Directives; Empresa Brasileira de Aeronautica S.A. (EMBRAER) Model EMB-145, -145ER, -145MR, -145LR, -145XR, -145MP, and -145EP Airplanes; and Model EMB-135BJ, -135ER, -135KE, -135KL, and -135LR Airplanes

Correction

Proposed Rule document E6-20629 was inadvertently published in the Rules and Regulations section in the issue of Wednesday, December 6, 2006, beginning on page 70648. It should have appeared in the Proposed Rules section.

[FR Doc. Z6-20629 Filed 12-21-06; 8:45 am]

BILLING CODE 1505-01-D